DEPARTMENT OF AGRICULTURE

Rural Business-Cooperative Service

Non-Leveraged Rural Business Investment Program; Public Comment for Proposed Rule Changes

AGENCY: Rural Business-Cooperative Service, USDA.

ACTION: Notice.

SUMMARY: This Notice announces public comment for proposed rule changes for the RBIP. Notice of a public webinar on the Agriculture Reform, Food, and Jobs Act of 2012; TITLE VI—RURAL DEVELOPMENT; Subtitle A—Reorganization of the Consolidated Farm and Rural Development Act; CHAPTER 2—RURAL BUSINESS AND COOPERATIVE DEVELOPMENT; Sec. 3602. Rural Business Investment Program (RBIP).

DATES: A webinar will be held Thursday, November 17, 2016. To discuss proposed rule changes. Registration will start at 11:45 a.m.; the program will begin at 12:00 p.m. and conclude by 1:45 p.m. Eastern Time.

SUPPLEMENTARY INFORMATION: The RBIP regulation Specialty Programs Division (see 7 CFR part 4290) is currently in the process of drafting several revisions within the rule. These rule changes will allow a more effective program for investing in rural areas. We are also looking to align the provision of the rule with other Rural Business-Cooperative service programs. We are seeking comments on potential rule changes from the public.

FOR FURTHER INFORMATION CONTACT: David Chesnick, Agricultural Economist, USDA, Rural Development, Rural Business-Cooperative Service. 1400 Independence Avenue SW., Washington, DC 20250-3225. Telephone (202) 690-0433.

To view audio and web conferencing, find hyperlink below. https://cc.readytalk.com/registration/#/?meeting=mcji2q8fsfbk&campaign=gpu22rmqt4rz.

Dated: November 2, 2016.
Justin Hatmaker,
Acting Administrator, Rural Business-Cooperative Service.

[FR Doc. 2016-27008 Filed 11-8-16; 8:45 am]

BILLING CODE 3410-XY-P